DEPARTMENT OF LABOR

Employment and Training Administration

[TA-W-53,745]

Phillips Plastics Corporation, Eau Claire, Wisconsin; Notice of Termination of Investigation

Pursuant to section 221 of the Trade Act of 1974, an investigation was initiated on December 9, 2003, in response to a petition filed on behalf of workers at Phillips Plastics Corporation, Eau Claire, Wisconsin.

This petitioning group of workers is covered by an earlier petition filed on December 8, 2003 (TA-W-53,735), that is the subject of an ongoing investigation for which a determination has not yet been issued. Consequently, further investigation in this case would serve no purpose, and the investigation has been terminated.

Signed in Washington, DC, this 16th day of December, 2003.
Elliott S. Kushner,
Certifying Officer, Division of Trade Adjustment Assistance.

[FR Doc. 04-294 Filed 1-6-04; 8:45 am]

BILLING CODE 4510-30-P